DEPARTMENT OF JUSTICE

Notice of Lodging of Settlement Agreement Under the Comprehensive Environmental Response, Compensation and Liability Act and Chapter 11 of the United States Bankruptcy Code

Notice is hereby given that on December 20, 2010, a proposed Settlement Agreement (“Agreement”) in In re Erving Industries, Inc., Case No. 09-30623 (Bankr. D. Mass), was lodged with the United States Bankruptcy Court for the District of Massachusetts. The Agreement was entered into by the United States, on behalf of the United States Environmental Protection Agency (“EPA”) and the United States Army Corps of Engineers (the “Corps”), and Erving Industries, Inc. (“Debtor”). The Agreement relates to liabilities of the Debtor under the Comprehensive Environmental Response, Compensation and Liability Act of 1980, 42 U.S.C. 9601 et seq. (“CERCLA”).

The Agreement provides that the Past Response Cost Claim shall be allowed as an unsecured claim in the amount of $25,000, and paid as an unsecured claim in accordance with the terms of the Debtor's plan of reorganization.

This Agreement does not preclude: (a) Claims against the Debtor by the United States under Section 107 of CERCLA, 42 U.S.C. 9607, for recovery of response costs incurred after January 15, 2010 with respect to response actions taken at Debtor-Owned Property, the Mill, and/or the Birch Hill Dam Area including such response actions taken to address hazardous substances that have migrated or that may migrate from such Debtor-Owned Property, and/or the Mill, including but not limited to the Birch Hill Dam Area; and (b) Actions against the Debtor by the United States under CERCLA or RCRA seeking to compel the performance of a removal action, remedial action, corrective action, closure or any other cleanup action at Debtor-Owned Property, and/or the Mill, including actions to address hazardous substances that have migrated, or that may migrate, from such Debtor-Owned Property, and/or the Mill, including but not limited to the Birch Hill Dam Area. The Debtor further agrees that such claims are not discharged or impacted in any way by the bankruptcy proceeding or confirmation of plan of reorganization. The United States has available to it all avenues to pursue such enforcement actions, and both parties reserve all defenses and counterclaims, except those provided under the Bankruptcy Code.

Under the Agreement, the Debtor must comply with all obligations under the 2007 Consent Decree entered in United States v. Baldwinville Products, Inc., et.al. (C.A. No. 4:07-CV-40146) (D. Mass.). These obligations are not effected in any way by this bankruptcy proceeding or confirmation of a plan of reorganization.

Under the Agreement, the United States covenants not to bring civil or administrative actions against the Debtor pursuant to Section 107 of CERCLA relating to Past Response Costs. This covenant not to sue is conditioned upon the complete and satisfactory performance by the Debtor of its obligations under the Agreement. The covenant not to sue applies only to the Debtor and does not prevent the United States from suing other persons. Additionally, the covenant not to sue is limited to Section 107 actions under CERCLA related to Past Response Costs; the United States reserves its rights to all other claims against the Debtor. The Debtor also covenants not to sue or to assert any claims against the United States with respect to Past Response Costs.

For a period of 30 days from the date of this publication, the Department of Justice will receive comments relating to the Agreement. Comments should be addressed to the Assistant Attorney General, Environment and Natural Resources Division, and either e-mailed to pubcomment-ees.enrd@usdoj.gov or mailed to P.O. Box 7611, U.S. Department of Justice, Washington, DC 20044, and should refer to In re Erving Industries, Inc., Case No. 09-30623 (Bankr. D. Mass) and D.J. Ref. No. 90-11-3-1728/2. A copy of the comments should be sent to Catherine Adams Fiske, Department of Justice, Environmental Enforcement Section, One Gateway Center, Suite 616, Newton, MA 02458 or e-mailed to her at addie.fiske@usdoj.gov.

The Agreement may be examined at the Office of the United States Attorney, District of Massachusetts, 595 Main St # 206, Worcester, MA 01608-2025. During the public comment period, the Agreement may also be examined on the following Department of Justice website, http://www.usdoj.gov/enrd/Consent_Decrees.html. A copy of the Agreement may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy of the Agreement from the Consent Decree Library, please enclose a check in the amount of $2.75 (25 cents per page reproduction cost) payable to the U.S. Treasury (if the request is by fax or email, forward a check to the Consent Decree library at the address stated above).

Maureen Katz,
Assistant Section Chief, Environmental Enforcement Section, Environment and Natural Resources Division.

[FR Doc. 2010-32378 Filed 12-23-10; 8:45 am]

BILLING CODE 4410-15-P